DEPARTMENT OF TRANSPORTATION

Federal Aviation Administration

14 CFR Part 71

[Docket No. FAA-2005-20246; Airspace Docket No. 04-ASO-15]

RIN 2120-AA66

Establishment of Area Navigation Instrument Flight Rules Terminal Transition Routes (RITTR); Charlotte, NC

AGENCY: Federal Aviation Administration (FAA), DOT.

ACTION: Final rule; correction.

SUMMARY: This action corrects errors in the legal descriptions of Area Navigation Instrument Flight Rules Terminal Transition Routes (RITTR) listed in a final rule published in the Federal Register on June 15, 2005 (70 FR 34649), Airspace Docket No. 04-ASO-15.

EFFECTIVE DATE: 0901 UTC, September 1, 2005.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

History

On June 15, 2005, a final rule for Airspace Docket No. 04-ASO-15 was published in the Federal Register (70 FR 34649). This rule established four RITTR routes (T-200, T-201, T-202, and T-203) in the Charlotte, NC, terminal area. In all four routes, points that were listed in the route descriptions as “waypoint” (WP) are actually existing published navigation “fixes.” Therefore, the descriptions are corrected by removing “WP” and substituting “Fix.” In addition, the descriptions for two of the routes contained an error in the geographic coordinates listed for one fix in each route. In route T-202, the latitude coordinate for the GANTS fix was published as 35°27′12″ N., while the correct point is 35°27′11″ N. In route T-203, the longitude coordinate for the LOCKS fix was published as 81°17′37″ W. The correct point is 81°17′33″ W. This action corrects those errors.

Correction to Final Rule

Accordingly, pursuant to the authority delegated to me, the legal descriptions for T-200, T-201, T-202 and T-203 as published in the Federal Register on June 15, 2005 (70 FR 34649), and incorporated by reference in 14 CFR 71.1, are corrected as follows:

PART 71—[Amended]

§ 71.1 [Amended]

* * * * *

T-200 Foothills, GA to Florence, SC [Corrected]

Foothills, GA (ODF), VORTAC, (lat. 34°41′45″ N., long. 83°17′52″ W.)

RICHE, Fix, (lat. 34°41′54″ N., long. 80°59′23″ W.)

Florence, SC (FLO), VORTAC, (lat. 34°13′59″ N., long. 79°39′26″ W.)

* * * * *

T-201 Columbia, SC to JOTTA [Corrected]

Columbia, SC (CAE), VORTAC, (lat. 33°51′26″ N., long. 81°03′14″ W.)

HUSTN, Fix, (lat. 34°53′20″ N., long. 80°34′20″ W.)

LOCAS, Fix, (lat. 35°12′05″ N., long. 80°26′45″ W.)

JOTTA, Fix, (lat. 36°00′53″ N., long. 80°50′58″ W.)

* * * * *

T-202 RICHE to GANTS [Corrected]

RICHE, Fix, (lat. 34°41′54″ N., long. 80°59′23″ W.)

HUSTN, Fix, (lat. 34°53′20″ N., long. 80°34′20″ W.)

GANTS, Fix, (lat. 35°27′11″ N., long. 80°06′16″ W.)

* * * * *

T-203 Columbia, SC to Pulaski, VA [Corrected]

Columbia, SC (CAE), VORTAC, (lat. 33°51′26″ N., long. 81°03′14″ W.)

LOCKS, Fix, (lat. 34°55′40″ N., long. 81°17′33″ W.)

Barretts Mountain, NC (BZM), VOR/DME, (lat. 35°52′08″ N., long. 81°14′26″ W.)

Pulaski, VA (PSK), VORTAC, (lat. 37°05′16″ N., long. 80°42′46″ W.)

* * * * *

Issued in Washington, DC, on August 18, 2005.
Edith V. Parish,
Acting Manager, Airspace and Rules.

[FR Doc. 05-16747 Filed 8-22-05; 8:45 am]

BILLING CODE 4910-13-P